DEPARTMENT OF THE INTERIOR

National Park Service

[NPS-WASO-NAGPRA-NPS0032105; PPWOCRADN0-PCU00RP14.R50000]

Notice of Inventory Completion: Oregon State University, Corvallis, OR

AGENCY: National Park Service, Interior.

ACTION: Notice.

SUMMARY: The Oregon State University NAGPRA Office has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Oregon State University NAGPRA Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Oregon State University NAGPRA Office at the address in this notice by July 26, 2021.

FOR FURTHER INFORMATION CONTACT: Dawn Marie Alapisco, Oregon State University NAGPRA Office, 106 Gilkey Hall, Corvallis, OR 97331, telephone (541) 737-4075, email dawnmarie.alapisco@oregonstate.edu.

SUPPLEMENTARY INFORMATION: Notice is here given in accordance with the Native American Graves Protection and Repatriation Act (NAGPRA), 25 U.S.C. 3003, of the completion of an inventory of human remains and associated funerary objects under the control of Oregon State University, Corvallis, OR. The human remains and associated funerary objects were removed from the City of Bandon, Coos County, Oregon.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Oregon State University Department of Anthropology and NAGPRA Office professional staff in consultation with representatives of the Confederated Tribes of Siletz Indians of Oregon [previously listed as Confederated Tribes of the Siletz Reservation] and the Coquille Indian Tribe [previously listed as Coquille Tribe of Oregon]. The Burns Paiute Tribe [previously listed as Burns Paiute Tribe of the Burns Paiute Indian Colony of Oregon]; Confederated Tribes of the Coos, Lower Umpqua and Siuslaw Indians; Confederated Tribes of the Grand Ronde Community of Oregon; Confederated Tribes of the Umatilla Indian Reservation [previously listed as Confederated Tribes of the Umatilla Reservation, Oregon]; Confederated Tribes of the Warm Springs Reservation of Oregon; Cow Creek Band of Umpqua Tribe of Indians [previously listed as Cow Creek Band of Umpqua Indians of Oregon]; and the Klamath Tribes were invited to consult but did not participate. Hereafter, the above listed Indian Tribes are referred to as “The Consulted and Invited Tribes.”

History and Description of the Remains

Between 1978 and 2001, Dr. Roberta Hall of the Oregon State University Anthropology Department conducted seven excavation seasons at Site 35CS043, which is located in the City of Bandon, Coos County, OR. Altogether, five areas, designated A through E, were excavated.

In June 2001, human remains representing, at minimum, three individuals were removed from 35CS043 by the Department of Anthropology at Oregon State University (OSU). The exact provenience of these human remains is not fully documented, as the human remains were only labeled Rogge Mill and backfill. This excavation was undertaken in response to a city project that unearthed human remains and associated funerary objects. All three individuals are adults, but their ages and sex could not be ascertained, as the remains were minimal and fragmentary. No known individuals were identified. The three associated funerary objects are one faunal fragmented bone, one lot of faunal remains intermixed with charcoal and shell fragments, and one lot of faunal remains.

In 1988, human remains representing, at minimum, three individuals were removed from 35CS043A by the Department of Anthropology at OSU with the aid of the City of Bandon and the Coquille Indian Tribe. The excavation discovered what appeared to be the partial reburial of an individual who had been partially exhumed during some past construction in the area. This individual (assigned burial number 13) was approximately 25-30 years of age at the time of death and of indeterminate sex indeterminate. A second individual was a sub-adult of indeterminate sex, and a third individual was a fetus or very young infant of indeterminate sex. No known individuals were identified. No associated funerary objects are present.

In 1990, human remains representing, at minimum, seven individuals were removed from 35CS043B by the Department of Anthropology at OSU with the aid of the Coquille Indian Tribe. One of the individuals (assigned burial number 14), a male, was approximately 50 years of age at the time of death. With the approval of the Coquille Indian Tribe, a small bone sample was sent to Beta Analytic for radiocarbon dating with a result of a 95% confidence interval that he died between 550 and 370 BCE. A second individual was a sub-adult of indeterminate sex, and the remaining five individuals could not be aged, sexed, or dated. No known individuals were identified. The 28 associated funerary objects are one clay pipe fragment, one lot of faunal remains, one lot of flakes, one lot of mixed stone and bone technologies, one point, one soil sample, 15 lots of worked bone tools, one lot of worked CCS fragments, and six worked stone tools.

In 1986, human remains representing, at minimum, four individuals were removed from 35CS043C by the Department of Anthropology at OSU at the request of the City of Bandon and the Coquille Indian Tribe. In May of 1986 a City of Bandon construction project to expand underground power lines unearthed human skeletal remains. Three graves were unearthed before the construction crew realized that they had disturbed a burial site. (Human remains from four additional graves found during the OSU-led excavations were reburied by the Coquille Indian Tribe). The human remains of these four individuals were misidentified in the field and were curated at OSU with non-human, archeological materials from the site. One of the individuals is a sub-adult of indeterminate sex, and the other three individuals are of indeterminate age and sex. No known individuals were identified. The seven associated funerary objects are two lots of faunal remains, one lot of mixed wood and stone technology, one lot of shell beads, one soil sample, and two lots of worked bone.

In 1991, human remains representing, at minimum two individuals were removed from 35CS043E by the Department of Anthropology at OSU. One individual (assigned burial number 15) was approximately 23-26 years of age at the time of death and of indeterminate sex. The second individual could not be aged or sexed. No known individuals were identified. The two associated funerary objects are one lot of worked bone tools and one worked bone wedge fragment.

Site 35CS043 has a very long occupation history. Radiocarbon dating samples sent to Beta Analytics by Dr. Roberta Hall show occupation as early as 2310-1660 BCE. This site was one of three Coquille villages that made up the Nasomah Complex. All three villages were attacked by miners on January 28, 1854, during the Nasomah massacre; up to 21 tribal individuals were reported killed.

The Coos Bay Indians are the ancestors of the present-day Coquille Indian Tribe. They spoke Miluk, a Penutian dialect, and the Coquille/Tututni dialect of Athabaskan. The split between Miluk (Lower Coquille) and Athapaskan (Upper Coquille) is around Randolph Island on the Coquille River. The Coos Bay Indians (now known as the Coquille Indian Tribe) claimed the territory two miles south of the lower Coquille River in a 1935 case before the U.S. Court of Claims. After its Federal recognition was terminated by an Act of Congress in 1954 (finalized 1956), the Coquille Indian Tribe was officially restored to recognized status in 1989.

The Confederated Tribes of Siletz Indians of Oregon are a confederation of more than 30 bands whose ancestral territory ranged along the entire Oregon coast and Coast Range, inland to the main divide of the Cascade Range and southward to the Rogue River watershed. The principal constituents include the Clatsop, Chinook, Klickitat, Molala, Kalapuya, Tillamook, Alsea, Siuslaw/Lower Umpqua, Coos, Coquille, Upper Umpqua, Tututni, Chetco, Tolowa, Takelma or Upper Rogue River, Galice/Applegate, and Shasta. Ancestors of the Confederated Tribes of Siletz Indians of Oregon spoke at least 10 different base languages, many of which had strong dialectic divisions even within the same language. In general, five linguistic stocks—Salish, Penutian, Hokan, Sahaptin, and Athabaskan—are represented by the Tribes confederated at the Siletz Reservation. The Tribes were forcibly removed from their homelands in 1855 by the U.S. Government and placed on the Siletz Reservation. After their Federal recognition was terminated by an Act of Congress in 1954 (finalized 1956), the Confederated Tribes of Siletz Indians of Oregon were officially restored to recognized status in 1977.

Determinations Made by Oregon State University

Officials of Oregon State University have determined that:

• Pursuant to 25 U.S.C. 3001(9), the human remains described in this notice represent the physical remains of 19 individuals of Native American ancestry.

• Pursuant to 25 U.S.C. 3001(3)(A), the 40 associated funerary objects described in this notice are reasonably believed to have been placed with or near individual human remains at the time of death or later as part of the death rite or ceremony.

• Pursuant to 25 U.S.C. 3001(2), there is a relationship of shared group identity that can be reasonably traced between the Native American human remains and associated funerary objects and the Confederated Tribes of Siletz Indians of Oregon [previously listed as Confederated Tribes of the Siletz Reservation] and the Coquille Indian Tribe [previously listed as Coquille Tribe of Oregon] (hereafter referred to as “The Tribes”).

Additional Requestors and Disposition

Lineal descendants or representatives of any Indian Tribe or Native Hawaiian organization not identified in this notice that wish to request transfer of control of these human remains and associated funerary objects should submit a written request with information in support of the request to Dawn Marie Alapisco, Oregon State University NAGPRA Office, 106 Gilkey Hall, Corvallis, OR 97331, telephone (541) 737-4075, email dawnmarie.alapisco@oregonstate.edu, by July 26, 2021. After that date, if no additional requestors have come forward, transfer of control of the human remains and associated funerary objects to The Tribes may proceed.

The Oregon State University NAGPRA Office is responsible for notifying The Consulted and Invited Tribes that this notice has been published.

Dated: June 9, 2021.
Melanie O'Brien,
Manager, National NAGPRA Program.

[FR Doc. 2021-13510 Filed 6-24-21; 8:45 am]

BILLING CODE 4312-52-P